DEPARTMENT OF COMMERCE

National Oceanic and Atmospheric Administration

[I.D. 050201C]

Southwest Region Gear Identification Requirements

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before July 9, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Alvin Katekaru, F/SWRX1, Room 1110, 1601 Kapiolani Blvd., Honolulu, HI 96814-4700 (phone 808-973-2937).

SUPPLEMENTARY INFORMATION:

I. Abstract

Regulations at 50 CFR 660.24 and 660.47 require that certain fishing gear must be marked. In the Western Pacific Pelagic Fishery, the vessel operator must ensure that the official number of the vessel is affixed to every longline buoy and float. In the Western Pacific Crustacean Fishery, each trap and float must be marked with the vessel’s identification number. The marking of gear aids law enforcement and is valuable in actions concerning the damage and loss of gear.

II. Method of Collection

No information is collected.

III. Data

OMB Number: 0648-0360.

Form Number: None.

Type of Review: Regular submission.

Affected Public: Business or other for-profit organizations, individuals or households.

Estimated Number of Respondents: 172.

Estimated Time Per Response: 2 minutes per marking.

Estimated Total Annual Burden Hours: 647.

Estimated Total Annual Cost to Public: $17,200.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and(d) ways to minimize the burden of the collection of information on respondents, including through the use of automated collection techniques or other forms of information technology.

Comments submitted in response to this notice will be summarized and/or included in the request for OMB approval of this information collection; they also will become a matter of public record.

Dated: May 1, 2001.
Madeleine Clayton,
Departmental Paperwork Clearance Officer, Office of the Chief Information Officer.

[FR Doc. 01-11547 Filed 5-7-01; 8:45 am]

BILLING CODE 3510-22-S